DEPARTMENT OF LABOR

Employment and Training Administration

[TA-W-40,721]

Englehard Corporation, McIntyre, GA; Notice of Negative Determination Regarding Application for Reconsideration

By application of March 21, 2002, the company requested administrative reconsideration of the Department's negative determination regarding eligibility for workers and former workers of the subject firm to apply for Trade Adjustment Assistance (TAA). The denial notice was signed on February 26, 2002 and published in the Federal Register on March 20, 2002 (67 FR 13010).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Englehard Corporation, McIntyre, Georgia engaged in the production of paper coating and filling—kaolin, was denied because the “contributed importantly” group eligibility requirement of Section 222(3) of the Trade Act of 1974, as amended, was not met. Increased imports did not contribute importantly to worker separations at the subject plant.

The petitioner alleges that the customers they supplied during the initial investigation are located outside the United States. The petitioner further states that these customers switched their purchases from the subject firm in favor of purchasing from sources located in Brazil. In addition the subject firm now has domestic customers that are now purchasing from Brazil and other countries.

A review of the initial investigation shows that the major declining customers were all foreign companies located in Europe. Based on information provided during the initial investigation and recent clarification from the company, the preponderance in the declines in sales and production at the subject plant are related to the declines in purchases from the subject firm's foreign customers located in Europe. Those customers switched their purchases from the subject firm in favor of purchasing Brazilian imports of products “like or directly competitive” with what the subject plant produced. The loss of foreign customers, switching their purchasing from subject firm in favor of purchasing from foreign sources does not meet the eligibility requirements under criterion (3) of the Trade Act of 1974.

Conclusion

After review of the application and investigative findings, I conclude that there has been no error or misinterpretation of the law or of the facts which would justify reconsideration of the Department of Labor's prior decisions. Accordingly, the application is denied.

Signed at Washington, DC, this 16th day of May, 2002.
Edward A. Tomchick,
Director, Division of Trade Adjustment Assistance.

[FR Doc. 02-14597 Filed 6-10-02; 8:45 am]

BILLING CODE 4510-30-P